DEPARTMENT OF TRANSPORTATION

Federal Aviation Administration

Notice of Intent to Rule on Request to Release Airport Property at the Brownsville/South Padre Island International Airport, Brownsville, TX

AGENCY: Federal Aviation Administration (FAA), DOT.

ACTION: Notice of request to release airport property.

SUMMARY: The FAA proposes to rule and invite public comment on the release of land at the Brownsville/South Padre Island International Airport under the provisions of Section 125 of the Wendell H. Ford Aviation Investment Reform Act for the 21st Century (AIR 21).

DATES: Comments must be received on or before September 25, 2003.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. Larry Brown, Director of Aviation, at the following address: City of Brownsville, Department of Aviation, 700 South Minnesota Avenue, Brownsville, Texas 78521-5721.

FOR FURTHER INFORMATION CONTACT: Mr. Rodney Clark, Program Manager, Federal Aviation Administration, Texas Airports Development Office, ASW-650, 2601 Meacham Boulevard, Fort Worth, Texas 76193-0650, Telephone: (817) 222-5650, e-mail: Rodney.Clark@faa.gov, fax: (817) 222-5989.

The request to release property may be reviewed in person at this same location.

SUPPLEMENTARY INFORMATION: The FAA invites public comment on the request to release property at the Brownsville/South Padre Island International Airport under the provisions of the AIR 21.

On June 24, 2003, the FAA determined that the request to release property at Brownsville/South Padre Island International Airport, submitted by the City, met the procedural requirements of the Federal Aviation Regulations, Part 155. The FAA may approve the request, in whole or in part, 30 days from the posting of this Federal Register notice.

The following is a brief overview of the request:

The City of Brownsville requests the release of 1.327 acres of non-aeronautical airport property. The land is part of a War Assets Administration deed of airport property to the City in 1948. The funds generated by the release will be used for upgrading, maintenance, operation and development of the airport.

Any person may inspect the request in person at the FAA office listed above under FOR FURTHER INFORMATION CONTACT.

In addition, any person may, upon request, inspect the application, notice and other documents relevant to the application in person at the Brownsville/South Padre Island International Airport, telephone number (956) 542-4373.

Issued in Fort Worth, Texas on August 5, 2003.
Naomi L. Saunders,
Manager, Airports Division.

[FR Doc. 03-21772 Filed 8-25-03; 8:45 am]

BILLING CODE 4910-13-M